DEPARTMENT OF HEALTH AND HUMAN SERVICES

Administration for Community Living

[OMB #0985-0039]

Agency Information Collection Activities; Proposed Collection; Comment Request; Prevention and Public Health Fund Evidence-Based Falls Prevention Program Information Collection

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice.

This notice solicits comments on the Proposed Extension with minor changes and solicits comments on the information collection requirements related to Prevention and Public Health Funds Evidence-Based Falls Prevention Program Information Collection.

DATES: Comments on the collection of information must be submitted electronically by 11:59 p.m. (EST) or postmarked by November 27, 2020.

ADDRESSES: Submit electronic comments on the collection of information to: Shannon Skowronski. Submit written comments on the collection of information to Administration for Community Living, Washington, DC 20201, Attention: Shannon Skowronski.

FOR FURTHER INFORMATION CONTACT: Shannon Skowronski, Administration for Community Living, Washington, DC 20201, Shannon Skowronski, 202-795-7438, shannon.skowronski@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology. The Evidence-Based Falls Prevention Grant Program is financed through the Prevention and Public Health Fund (PPHF), most recently with FY 2020 PPHF funds. The statutory authority for these cooperative is contained in Continuing Appropriations Act, 2020 and Health Extenders Act of 2019, Public Law 116-59; the Older Americans Act (OAA) (Section 411); and the Patient Protection and Affordable Care Act, 42 U.S.C. 300u-11 (Prevention and Public Health Fund).

The Evidence-Based Falls Prevention Program supports a national resource center and awards competitive grants to implement and promote the sustainability of evidence-based community programs that have been proven to reduce the falls incidence and risk among for older adults. OMB approval of the existing set of Falls Prevention data collection tools (OMB Control Number, 0985-0039) expires on 03/31/2021. This data collection continues to be necessary for monitoring program operations and outcomes.

ACL/AoA proposes to use the following tools: (1) Semi-annual performance reports to monitor grantee progress; (2) a Host/Implementation Organization Information Form to record location of agencies that sponsor programs that will allow mapping of the delivery infrastructure; and (3) a set of tools used to collect information at each program completed by the program leaders (Program Information Cover Sheet and Attendance Log), a Participant Information Form to be completed by all participants, and a Post Program Survey to be completed by a random sample of participants.

ACL/AoA intends to continue using an online data entry system for the program and participant survey data.

Minor changes are being proposed to the currently approved tools. All changes proposed are based on feedback from a focus group that included a sub-set of current grantees and consultation with subject-matter experts.

The proposed data collection tools may be found on the ACL website for review at https://www.acl.gov/about-acl/public-input.

Estimated Program Burden: ACL estimates the burden associated with this collection of information as follows:

Respondent/data collection activity | Number of respondents | Responses per respondent | Hours per response | Annual burden hours
Project staff, Semi-annual Performance Report | 20 | Twice a year | 8 | 320
Local agency leaders Program Information Cover Sheet/Participant Information Form/Attendance Log/Post Local data entry staff Program Survey | 436 leaders 40 data entry staff | Twice a year (one set per program) Once per program × 872 programs | .50 .50 | 436 436
Local organization staff and local database entry staff Host Organization Data Form | 436 staff | 1 | .05 | 22
Program participants Participant Information Form | 10,455 | 1 | .10 | 1,046
Program Participants Post Program Survey | 6,273 | 1 | .10 | 628
Total Burden Hours |  |  |  | 2,888

Dated: September 17, 2020.
Mary Lazare,
Principal Deputy Administrator.

[FR Doc. 2020-21292 Filed 9-25-20; 8:45 am]

BILLING CODE 4154-01-P